DEPARTMENT OF TRANSPORTATION

Federal Highway Administration

Notice of Intent To Prepare an Environmental Impact Statement, WIS 47, Outagamie and Shawano Counties, Wisconsin

AGENCY: Federal Highway Administration (FHWA), DOT.

ACTION: Notice of Intent To Prepare an Environmental Impact Statement.

SUMMARY: The FHWA is issuing this notice to advise the public that an Environmental Impact Statement (EIS) will be prepared for long-range transportation improvements in the WIS 47 corridor in Outagamie and Shawano Counties, Wisconsin. The EIS is being prepared in conformance with 40 CFR part 1500 and FHWA regulations.

SUPPLEMENTARY INFORMATION: The Federal Highway Administration (FHWA), in cooperation with the Wisconsin Department of Transportation (WisDOT), will prepare a tiered Environmental Impact Statement (EIS) on long-range improvements to address transportation demand, traffic operations, safety concerns, and corridor preservation needs on an approximate 33-mile portion of WIS 47 between U.S. 41 in Outagamie County and WIS 29 in Shawano County. The tiered EIS will evaluate the no build alternative and a range of short-term and long-term improvement alternatives. The tiered EIS will also serve as a corridor preservation tool for protecting the land needed for future transportation improvements and to assist local officials in making compatible land use decisions. More detailed Tier 2 environmental documents would be prepared for specific improvement projects when factors such as safety concerns, traffic volumes and existing deficiencies indicate the need for such improvements.

Participation by the public, local officials, State and Federal regulatory agencies, Native American Tribes and other interests will be solicited through a stakeholder committee, public information meetings, agency coordination meetings, and a public hearing. Opportunities to be a participating and/or cooperating agency and to provide input on the project's coordination plan and impact assessment methodology will also be provided under Section 6002 of the Safe, Accountable, Flexible, Efficient Transportation Equity Act: A Legacy for Users (SAFETEA-LU).

This study shall comply with Title VI of the Civil Rights Act and of Executive Order 12898, which prohibits discrimination on the basis of race, color, age, sex, or country of national origin in the implementation of this action. To ensure that the full range of issues related to this proposed action is addressed, and all substantive issues are identified, comments and suggestions are invited from all interested parties. Comments or questions concerning this proposed action should be directed to FHWA or WisDOT at the addresses provided below (Catalog of Federal Domestic Assistance Program Number 20.205, Highway Planning and Construction.)

FOR FURTHER INFORMATION CONTACT: Tracey McKenney, Major Projects Program Manager/Team Leader, Federal Highway Administration, 525 Junction Road, Suite 8000, Madison, WI 53717-2157; Telephone: (608) 829-7510. You may also contact Eugene Johnson, Director, Bureau of Equity and Environmental Services, Wisconsin Department of Transportation, P.O. Box 7916, Madison, Wisconsin 53707-7916: Telephone: (608) 267-9527.

An electronic copy of this document may be downloaded from the Government Printing Office's Electronic Bulletin Board Service at (202) 512-1661 by using a computer modem and suitable communications software. Internet users may reach the Office of Federal Register's home page at: http://www.archives.gov/ and the Government Printing Office's database at: http://www.gpoaccess.gov/nara/index.html.

Authority: 23 U.S.C. 315; 49 CFR 1.48.

Issued on: November 12, 2010.
Tracey McKenney,
Major Projects Program Manager, Federal Highway Administration, Madison, Wisconsin.

[FR Doc. 2010-29131 Filed 11-17-10; 8:45 am]

BILLING CODE P